DEPARTMENT OF ENERGY

Federal Energy Regulatory Commission

[ Docket Nos. RP98-53-027 and GP98-29-002]

Kinder Morgan Interstate Gas Transmission LLC; Notice of Refund Report

January 16, 2004.

Take notice that on December 31, 2003, Kinder Morgan Interstate Gas Transmission LLC (KMIT) tendered for filing its Refund Report pursuant to the Commission's Letter Order approving a settlement issued on September 11, 2003 (104 FERC ¶ 61,265 (2003).

KMIGT states that on December 12, 2003, it refunded to the local distribution companies listed on Appendix B to the Settlement Agreement their allocated share of the net Kansas ad valorem tax reimbursements received by KMIGT pursuant to the Settlement Agreement. KMIGT further states that on December 24, 2003, it refunded to Public Service Company of Colorado (PSCo) amounts from pre-2003 refunds that it had been holding in suspense attributable to service proposed by KMIGT's predecessor to Iowa Electric Light and Power Company pursuant to an indemnification and release agreement executed between KMIGT and PSCo.

KMIGT states that copies of the filing have been served upon all to Docket No. RP98-53, on all affected state regulatory commissions, and on all LDCs listed on Appendix B to the Settlement Agreement, whether or not they are parties to this proceeding.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: January 23, 2004.

Linda Mitry,
Acting Secretary.

[FR Doc. E4-105 Filed 01-23-04; 8:45 am]

BILLING CODE 6717-01-P